DEPARTMENT OF ENERGY

Federal Energy Regulatory Commission

[Docket No. OR11-20-000]

Tesoro Refining and Marketing Company, SFPP, L.P.; Notice of Complaint

Take notice that on August 2, 2011, pursuant to Rule 206 of the Rules of Practice and Procedure of the Federal Energy Regulatory Commission (Commission), 18 CFR 385.206, the Procedural Rules Applicable to Oil Pipeline Proceedings, 18 CFR 343.2, sections 1(4), 1(5), 8, 9, 13, 15, and 16 of the Interstate Commerce Act (ICA), 49 U.S.C. App. 1(4), 1(5), 8, 9, 13, 15, and 16 (1984); and section 1803 of the Energy Policy Act of 1992 (EPAct), Tesoro Refining and Marketing Company (Complainant) filed a complaint against SFPP, L.P. (SFPP or Respondent), challenging the justness and reasonableness of rates on SFPP's North Line.

Complainant alleges that from at least May 1, 2010 to the present, Respondent has charged unjust and unreasonable rates for transportation on its North Line from Richmond and Concord, CA to Reno, NV under SFPP FERC Tariff Nos. 179, 189, and 199.0.0. As a result, Complainant alleges that Respondent has significantly over-recovered its cost of service. Complainant requests that the Commission: (i) Convene an evidentiary hearing with full rights to discovery; (ii) determine that the rates established by Respondent under the tariffs specified above are unjust and unreasonable; (iii) prescribe new rates that are just and reasonable for future shipments of refined petroleum products on Respondent's North Line; (iv) order SFPP to pay refunds, reparations and damages, plus interest, to Complainant for shipments made by Complainant under the tariffs specified above; (v) award Complainant its costs and attorney's fees in prosecuting this Complaint; and (vi) grant Complainant such other, different or additional relief as the Commission may determine to be appropriate.

The Complainant certifies that copies of the complaint were served on the contacts for the Respondent as listed on the Commission's list of Corporate officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on September 1, 2011.

Dated: August 4, 2011.
Kimberly D. Bose,
Secretary.

[FR Doc. 2011-20266 Filed 8-9-11; 8:45 am]

BILLING CODE 6717-01-P